DEPARTMENT OF DEFENSE

Office of the Secretary

[Docket ID DoD-2022-OS-0034]

Submission for OMB Review; Comment Request

AGENCY: The Office of the Under Secretary of Defense for Research and Engineering (USD(R&E)), Department of Defense (DoD).

ACTION: 30-Day information collection notice.

SUMMARY: The DoD has submitted to the Office of Management and Budget (OMB) for clearance the following proposal for collection of information under the provisions of the Paperwork Reduction Act.

DATES: Consideration will be given to all comments received by March 1, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: DoD STEM Work Experience Program Participant Questionnaire; OMB Control Number 0704-STEM.

Type of Request: New collection.

Number of Respondents: 300.

Responses per Respondent: 1.

Annual Responses: 300.

Average Burden per Response: 15 minutes.

Annual Burden Hours: 75.

Needs and Uses: The information collection is required to evaluate the DoD Work Experience Programs in support of the DoD STEM Office. The intent of the survey collection is to evaluate the participants' perspective on the program, what attracted them to the program, what they accomplished during the program and expected benefits from participation, along with any obstacles or barriers they had to overcome to participate. The survey's intended population is participants in DoD-funded work experience programs. The programs include internships, post-doctoral, and similar positions where the participants are working at or for DoD organizations while also receiving mentorship. All the respondents will be adults, either currently in college or recently graduated. Some of the respondents will be Federal civilians and others may be classified as contractors. Survey participation will be anonymous, and data will be reported only in aggregated form.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: January 25, 2023.
Aaron T. Siegel,
Alternate OSD Federal Register Liaison Officer, Department of Defense.

[FR Doc. 2023-01808 Filed 1-27-23; 8:45 am]

BILLING CODE 5001-06-P